DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 28, 2006.

Interested persons are invited to submit written comments regarding the subject matter of the investigations to the Director, Division of Trade Adjustment Assistance, at the address shown below, not later than April 28, 2006.

The petitions filed in this case are available for inspection at the Office of the Director, Division of Trade Adjustment Assistance, Employment and Training Administration, U.S. Department of Labor, Room C-5311, 200 Constitution Avenue, NW., Washington, DC 20210.

Signed at Washington, DC, this 11th day of April 2006.
Erica R. Cantor,
Director, Division of Trade Adjustment Assistance.

Appendix.—TAA Petitions Instituted Between 4/3/06 and 4/7/06
TA-W | Subject firm (petitioners) | Location | Date of institution | Date of petition
59132 | Imation (Wkrs) | Wahpeton, ND | 04/03/06 | 03/31/06
59133 | GKN Sinter Metals (Comp) | Romulus, MI | 04/03/06 | 03/13/06
59134 | Tillmann Tool (State) | Breckenridge, MN | 04/03/06 | 03/31/06
59135 | Bicor Processing Corp. (Comp) | Brooklyn, NY | 04/03/06 | 03/22/06
59136 | Cranston Print Works Company (Comp) | Cranston, RI | 04/03/06 | 03/06/06
59137 | DPS Locator (48310) | Sterling Heights, MI | 04/03/06 | 03/13/06
59138 | Infinity Resources, Inc. (Comp) | Erie, PA | 04/03/06 | 03/07/06
59139 | Whitesell Corporation (Comp) | Muscle Shoals, AL | 04/03/06 | 03/13/06
59140 | MRC Industrial Group (UAW) | Warren, MI | 04/03/06 | 03/30/06
59141 | AT & T Call Center (CWA) | Fairhaven, MA | 04/03/06 | 03/14/06
59142 | Tenneco Automotive (Wkrs) | Milan, OH | 04/03/06 | 03/20/06
59143 | Fiber Industries, Inc. (Comp) | Fort Mill, SC | 04/03/06 | 03/22/06
59144 | Liu's Garment, Inc. (Wkrs) | San Francisco, CA | 04/03/06 | 03/17/06
59145 | Roland Audio Development Corporation (State) | La Mirada, CA | 04/03/06 | 03/20/06
59146 | NTN—BCA Corporation (USW) | Lititz, PA | 04/03/06 | 03/06/06
59147 | Springs Global US, Inc. () | Piedmont, AL | 04/04/06 | 04/03/06
59148 | Valkyrie Co. (The) (Comp) | Worcester, MA | 04/04/06 | 03/29/06
59149 | Cole Hersee Company (Comp) | So. Boston, MA | 04/04/06 | 04/04/06
59150 | DemeTron Kerr (Comp) | Danbury, CT | 04/04/06 | 03/29/06
59151 | Rowe Pottery Works (Wkrs) | Cambridge, WI | 04/04/06 | 04/03/06
59152 | WestPoint Home (Comp) | Abbeville, AL | 04/05/06 | 04/03/06
59153 | IBM Corporation (Comp) | Somers, NY | 04/05/06 | 03/16/06
59154 | TRW Automotive (Comp) | Sterling Hgts., MI | 04/05/06 | 03/31/06
59155 | California Cedar Products (State) | McCloud, CA | 04/05/06 | 03/06/06
59156 | Clover Yarn, Inc. (Wkrs) | Clover, VA | 04/05/06 | 04/03/06
59157 | General Electric (IUE-CW) | Murfreesboro, TN | 04/05/06 | 03/31/06
59158 | Progressive Screens, Inc. (Comp) | Gaffney, SC | 04/05/06 | 03/28/06
59159 | Eagle-Picher (State) | Hillsdale, MI | 04/05/06 | 03/29/06
59160 | 3M Touch Systems (Wkrs) | Milwaukee, WI | 04/05/06 | 04/04/06
59161 | Danish Silversmith (Comp) | Cranston, RI | 04/05/06 | 04/05/06
59162 | Esselte Corporation (Comp) | Buena Park, CA | 04/05/06 | 03/29/06
59163 | Lending Textile Company, Inc. (Comp) | Williamsport, PA | 04/05/06 | 04/04/06
59164 | Sun Components, Inc. (Comp) | Warsaw, IN | 04/05/06 | 04/03/06
59165 | Georgi-Pacific Corp (Comp) | Old Twn, ME | 04/06/06 | 04/04/06
59166 | Guidecraft-Kaplan Mfg. (State) | Winthrop, MN | 04/06/06 | 04/05/06
59167 | Tredegar Film Products (GCU) | LaGrange, GA | 04/06/06 | 04/05/06
59168 | Joan Fabrics Corporation (Comp) | Siler City, NC | 04/06/06 | 04/05/06
59169 | Moore Wallace, Inc. () | Nacogdoches, TX | 04/07/06 | 03/30/06
59170 | Harris Thomas Drop Forge () | Dayton, OH | 04/07/06 | 04/07/06
59171 | Starkey Labs—Microtech & Qualitone () | Eden Praire, MN | 04/07/06 | 04/06/06
59172 | Tri Palm International () | Columbus, OH | 04/07/06 | 04/07/06
59173 | Russell Corporation () | Sussex, WI | 04/07/06 | 04/06/06
59174 | Ethox International, Inc. () | Buffalo, NY | 04/07/06 | 04/06/06
59175 | Q-Edge Corporation () | Ontario, CA | 04/07/06 | 04/06/06

[FR Doc. E6-5762 Filed 4-17-06; 8:45 am]

BILLING CODE 4510-30-P